DEPARTMENT OF ENERGY

[FE Docket No. 01-13-NG, et al.]

Office of Fossil Energy; H.Q. Energy Services (U.S.) Inc., et al.; Orders Granting and Transferring Authority to Import and Export Natural Gas

AGENCY: Office of Fossil Energy, DOE.

ACTION: Notice of Orders.

SUMMARY: The Office of Fossil Energy (FE) of the Department of Energy gives notice that during April 2001, it issued Orders granting and transferring authority to import and export natural gas. These Orders are summarized in the attached appendix and may be found on the FE web site at http://www.fe.doe.gov, or on the electronic bulletin board at (202) 586-7853. They are also available for inspection and copying in the Office of Natural Gas & Petroleum Import & Export Activities, Docket Room 3E-033, Forrestal Building, 1000 Independence Avenue, S.W., Washington, D.C. 20585, (202) 586-9478. The Docket Room is open between the hours of 8:00 a.m. and 4:30 p.m., Monday through Friday, except Federal holidays.

Issued in Washington, D.C., on May 15, 2001.
Clifford P. Tomaszewski,
Manager, Natural Gas Regulation, Office of Natural Gas & Petroleum, Import & Export Activities, Office of Fossil Energy.

Appendix_Orders Granting and Transferring Import/Export Authorizations

Order No. | Date issued | Importer/exporter FE Docket No. | Import Volume | Export volume | Comments
1675 | 04-12-01 | H.Q. Energy Services (U.S.) Inc. 01-13-NG | 200 Bcf | 200 Bcf | Import a combined total from Canada and Mexico and to export a combined total to Canada and Mexico, beginning on May 1, 2001, and extending through April 30, 2003.
1432-A | 04-17-01 | Husky Gas Marketing Inc. (Successor to Renaissance Energy (U.S.) Inc.) 98-85-NG |  |  | Transfer of long-term authority to import natural gas from Canada.
1037-A | 04-17-01 | Husky Gas Marketing Inc. (Successor to Renaissance Energy (U.S.) Inc.) 95-15-NG |  |  | Transfer of long-term authority to import natural gas from Canada.
952-A | 04-17-01 | Husky Gas Marketing Inc. (Successor to Renaissance Energy (U.S.) Inc.) 94-37-NG |  |  | Transfer of long-term authority to import natural gas from Canada.
1676 | 04-17-01 | Virginia Power Energy Marketing, Inc.) 01-12-NG | 730 Bcf |  | Import and export a combined total from and to Canada, over a two-year term beginning on the date of first delivery.
1275-C | 04-19-01 | Engage Energy America L.L.C. (Successor to Engage Energy America Corp.) 97-36-NG |  |  | Transfer of long-term authority to import natural gas from Canada.
1622-B | 04-19-01 | Engage Energy America L.L.C. (Successor to Engage Energy America Corp.) 00-58-NG |  |  | Transfer of blanket authority to import natural gas from Canada.
1253-C | 04-19-01 | Engage Energy America L.L.C. (Successor to Engage Energy America Corp.) 97-03-NG |  |  | Transfer of long-term authority to import natural gas from Canada.
1202-C | 04-19-01 | Engage Energy America L.L.C. (Successor to Engage Energy America Corp.) 96-52-NG |  |  | Transfer of long-term authority to import natural gas from Canada.
1128-C | 04-19-01 | Engage Energy America L.L.C. (Successor to Engage Energy America Corp.) 95-104-NG |  |  | Transfer of long-term authority to import natural gas from Canada.
1282-C | 04-19-01 | Engage Energy America L.L.C. (Successor to Engage Energy America Corp.) 97-37-NG |  |  | Transfer of long-term authority to import natural gas from Canada.
1332-C | 04-19-01 | Engage Energy America L.L.C. (Successor to Engage Energy America Corp.) 97-48-NG |  |  | Transfer of long-term authority to import natural gas from Canada.
1677 | 04-26-01 | Altagas Marketing (U.S.) Inc. 01-14-NG | 15 Bcf |  | Import from Canada over a two-year term beginning on the date of first delivery.

[FR Doc. 01-13011 Filed 5-22-01; 8:45 am]

BILLING CODE 6450-01-P